DEPARTMENT OF HOMELAND SECURITY

Federal Emergency Management Agency

44 CFR Part 67

[Docket ID FEMA-2014-0002; Internal Agency Docket No. FEMA-B-1145]

Proposed Flood Elevation Determinations

AGENCY: Federal Emergency Management Agency, DHS.

ACTION: Proposed rule; correction.

SUMMARY: On October 7, 2010, the Federal Emergency Management Agency (FEMA) published in the Federal Register a proposed rule that included modified Base (1% annual-chance) Flood Elevations (BFEs) for the locations along Cypress Creek Ditch and Victory Lake in Clay County, Arkansas. FEMA is no longer proposing these flood elevation determination changes along Cypress Creek Ditch and Victory Lake as identified in the above-referenced rulemaking publication.

DATES: Comments are to be submitted on or before July 14, 2014.

ADDRESSES: You may submit comments, identified by Docket No. FEMA-B-1145, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: FEMA publishes proposed determinations of BFEs and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 75 FR 62062-62063, in the October 7, 2010, issue of the Federal Register, FEMA published a table under the authority of 44 CFR 67.4. The table, entitled “Clay County, Arkansas, and Incorporated Areas”, addressed several flooding sources including Cypress Creek Ditch and Victory Lake. The proposed rule listed modified BFEs for Cypress Creek Ditch and Victory Lake between specific upstream and downstream locations listed in the table. FEMA is no longer proposing these flood elevation determination changes along Cypress Creek Ditch and Victory Lake as identified in the above-referenced rulemaking publication.

(Catalog of Federal Domestic Assistance No. 97.022, “Flood Insurance.”)

Dated: May 9, 2014.
Roy E. Wright,
Deputy Associate Administrator for Mitigation, Department of Homeland Security, Federal Emergency Management Agency.

[FR Doc. 2014-13894 Filed 6-12-14; 8:45 am]

BILLING CODE 9110-12-P